DEPARTMENT OF AGRICULTURE

Forest Service

Lost Cabin Mine, Medicine Bow-Routt National Forests, Carbon County, WY

AGENCY Forest Service, USDA.

ACTION: Revised Notice of Intent to prepare an Environmental Impact Statement.

SUMMARY: The Forest Service will prepare an Environmental Impact Statement (EIS) to assess and disclose the environmental effects of a Plan of Operations, submitted by Broken Arrow Mining, LLC, to conduct mineral exploration at the Lost Cabin Mine. The Lost Cabin Mine is located in Sections 1 and 12 of T. 14N., R. 86 W., 6th Principle Meridian, Carbon County, Wyoming. Approval of the Plan of Operations would allow the claimants to use National Forest System Roads (NFSR) 439, 431, and 431.A while conducting mineral exploration. In addition, they would be allowed to clear deadfall from and use roughly 0.4 miles of NFSR 4172. Finally, they would be allowed to improve and use 1.6 miles of an historic mining road (Way ¹ 4170H) that accesses the mine site. Improvements would include individual tree removal in isolated locations to improve maneuverability and sight distance and the installation of drainage structures to reduce erosion and sedimentation. The historic road falls within the Mowry Peak Inventoried Roadless Area (IRA) boundary. All roads and ways are currently closed to motorized vehicle use.

¹ Ways are routes not currently shown as part of the Forest Transportation System.

The EIS will comply with the requirements of the National Environmental Policy Act (42 U.S.C. sections 4321-4370a), the National Forest Management Act (16 U.S.C. 1600-1614), and the U.S. Mining Laws (30 U.S.C. 21-54), as amended.

DATES: An original Notice of Intent for this proposal was published in the Federal Register on March 20, 2002. Comments concerning the proposal and the scope of the analysis were requested to be received in writing by April 21, 2002. The Forest Service expects to file a Draft EIS with the Environmental Protection Agency (EPA) and make it available for public comment in October 2003. The agency expects to file the Final EIS in February 2004.

ADDRESSES: Send written comments to Mary Peterson, Medicine Bow-Routt National Forests Supervisor's Office, 2468 Jackson Street, Wyoming 82070.

FOR FURTHER INFORMATION CONTACT: Tom Florich, Recreation and Lands Program Manager, Medicine Bow-Routt National Forests, 2468 Jackson Street, Laramie, Wyoming, 82070 Telephone: (307) 745-2435.

Responsible Official: Mary H. Peterson, Medicine Bow-Routt National Forests Supervisor, 2468 Jackson Street, Laramie, Wyoming, 82070.

SUPPLEMENTARY INFORMATION: This is a revised Notice of Intent for the prior notice promulgated in the Federal Register, Vol. 67, No. 54, pp. 12958-12959, on March 20, 2002. The scope of the project has not changed; therefore, this revised Notice of Intent does not initiate a second scoping period for this proposal. The Notice of Intent is being revised for the following reasons:

(1) The Draft EIS has been delayed more than one year. The original expected release date was July 2002; the new expected date is October 2003 with the Final EIS to be released in February 2004; and

(2) The Responsible Official has changed. Rick D. Cables was identified as the Responsible Official in the March 20, 2002 Notice of Intent because of Inventoried Roadless Area issues associated with the project proposal. Since that time, rules and regulations affecting Inventoried Roadless Areas have changed, and the signing authority for decisions of this nature has been delegated to Forest Supervisors. Therefore, the Responsible Official for this proposal is now Mary H. Peterson, Forest Supervisor of the Medicine Bow-Routt National Forests.

Estimated Dates for Filing

The Draft EIS is expected to be filed with the Environmental Protection Agency (EPA) and available for public review during October 2003. At that time, the EPA will publish a Notice of Availability (NOA) of the Draft EIS in the Federal Register. The comment period on the Draft EIS will be for a period of not less than 45 days from the date the EPA publishes the NOA in the Federal Register. It is important that those interested in the management of this area comment at that time. The Final EIS is expected to be available in February 2004.

Release of Names

Comments received in response to this Notice of Intent, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

The Public Obligation To Comment

The Forest Service believes it is important to give reviewers an early notice of several court rulings related to public participation in the environmental review process. First, reviewers of Draft EIS's must structure their participation in the environmental review of the proposal so that it is meaningful and alerts an agency to the reviewer's position and contentions. Vermont Yankee Nuclear Power Corp. v. NRDC, 435 U.S. 519, 553 (1978). Also, environmental objections that could be raised during the Draft EIS state, but are not raised until after completion of the final EIS, may be waived or dismissed by the courts. City of Angoon v. Hodel, 803 F.3d 1016, 1022 (9th Cir. 1986) and Wisconsin Heritages, Inc. v. Harris, 490 F. Supp. 1334, 1338 (E.D. Wis. 1980). As a result of these previous court rulings, it is very important that those interested in this proposed action participate by the close of the 45-day comment period so that substantive comments and objections are made available to the Forest Service at a time when it can meaningfully consider them and respond to them in the Final EIS.

To assist the Forest Service in identifying and considering issues and concerns related to the proposed action, comments on the Draft EIS should be as specific as possible. It is also helpful if comments refer to specific pages or chapters of the draft document. Comments may also address the adequacy of the Draft EIS or the merits of the alternatives displayed in the document. Reviewers should refer to the Council on Environmental Quality Regulations at 40 CFR 1503.3 for implementing the procedural provisions of the National Environmental Policy Act for addressing these points. Please note that any comments that are submitted in relation to this Draft EIS will be considered public information.

After the comment period on the Draft EIS ends, comments will be analyzed, considered, and responded to by the Forest Service when preparing the Final EIS. As previously mentioned, the Final EIS is scheduled to be completed in February 2004. The Responsible Official will consider the comments, responses, environmental consequences discussed in the Final EIS, and applicable laws, regulations, and policies in making decisions regarding the Plan of Operations. The responsible official will document her decision and the reasons for the decision in a Record of Decision for the Lost Cabin Mine Final EIS. This decision will be subject to appeal in accordance with 36 CFR part 2157.

Dated: October 3, 2003.
Mary H. Peterson,
Forest Supervisor.

[FR Doc. 03-25675 Filed 10-9-03; 8:45 am]

BILLING CODE 3410-GM-M